DEPARTMENT OF AGRICULTURE

Food and Nutrition Service

Agency Information Collection Activities: Proposed Collection: Comment Request—Food Stamp Program Redemption Certificate, Form FNS-278B; Food Stamp Program Wholesaler Redemption Certificate, Form FNS-278-4

AGENCY: Food and Nutrition Service (FNS), USDA.

ACTION: Notice and request for comments.

SUMMARY: In accordance with the Paperwork Reduction Act of 1995, the Food and Nutrition Service is publishing for public comment a summary of a proposed information collection. The proposed collection is an extension, with change, of a currently approved information collection of the Food Stamp Program for which approval expires on November 30, 2001. The Food Stamp Act of 1977, as amended, requires that the Food and Nutrition Service will provide all authorized retail food stores and wholesale food concerns with redemption certificates. The redemption certificates are to be used by all authorized retailers and wholesale firms to present food coupons to insured financial institutions for credit or for cash. Requirements in the Food Stamp Program regulations are the basis for the information collected on Form FNS-278B, Food Stamp Redemption Certificate and Form FNS-278-4, Wholesaler Redemption Certificate.

DATES: Comments on this notice must be received by November 19, 2001 to be assured of consideration.

ADDRESSES: Send comments to Karen J. Walker, Chief, Retailer Management Branch, Benefit Redemption Division, Food and Nutrition Service, U.S. Department of Agriculture, 3101 Park Center Drive, Room 404, Alexandria, VA 22302.

Pursuant to the Paperwork Reduction Act of 1995 (44 U.S.C. 3507), comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

All comments will be summarized and included in the request for Office of Management and Budget approval of the information collection. All comments will become matter of public record.

FOR FURTHER INFORMATION CONTACT: Karen J. Walker, (703) 305-2418.

SUPPLEMENTARY INFORMATION: Title: Food Stamp Redemption Certificate.

OMB Number: 0584-0085.

Expiration Date: November 30, 2001.

Type of Request: Revision of a currently approved information collection.

Abstract: The Food and Nutrition Service (FNS) of the U.S. Department of Agriculture is the Federal Agency responsible for the Food Stamp Program (FSP). Section 10 of the Food Stamp Act of 1977, as amended, (7 U.S.C. 2019) requires that FNS provide for the redemption, through financial institutions, of food coupons accepted by approved retail food stores and wholesale food concerns from program participants. 7 CFR 278.3 and 7 CFR 278.4 of the FSP regulations govern the participation of authorized wholesale food concerns and retail stores in the food coupon redemption process. Form FNS-278B, Food Stamp Redemption Certificate and Form FNS-278-4, Wholesaler Redemption Certificates (RCs) are required to be used by all authorized wholesalers or retailers, and are processed by financial institutions when they are presented for cash or credit. Without the RCs, no vehicle would exist for financial institutions, Federal Reserve Banks, and FNS to track deposits of food coupons.

The burden associated with this form is derived from the number of RCs processed annually, based on information available in our Store Tracking and Redemption System (STARS) database. As of April 2001, the number of program respondents was 158,365 retailers and wholesalers and 5,850 banks participating in the Food Stamp Program. The number of completed RC responses by authorized retailers was 5,521,243 annually. We estimate that it takes an average of 1.2 minutes (or .020 hours) for a retailer to complete the information on the RC and for the financial institution to handle and process the document. For this information collection package, we calculated the burden hours from each year, added them together (2002-2004) and divided by three to obtain the average burden for which we are seeking OMB approval. We estimate the average burden hours for the next three years to be 135,947.02.

The burden for each of the three fiscal years (FYs) are estimated as follows:

In FY 2002, we estimate the number of program respondents will be 152,515 respondents with 5,850 banks continuing to participate in the FSP—reduction of 3,113 (or 2 percent) respondents. We also estimate that the number of completed RC responses by authorized retailers to be 10,497,840 annually—providing for a reduction of 2,624,460 (or 20 percent) annual responses, and a total burden hours calculated to be 209,956.80 hours.

In FY 2003, we estimate the number of program respondents will be 149,465 respondents with 5,850 banks continuing to participate in the FSP—a reduction of 3,050.30 (or 2 percent) respondents. We also estimate that the number of completed RC responses by authorized retailers to be 6,823,596 annually—providing for a reduction of 3,674,244 (or 35 percent) annual responses, and a total burden hours calculated to be 136,471.92 hours.

In FY 2004, we estimate the number of program respondents will be 147,223 respondents with 5,850 banks continuing to participate in the FSP—a reduction of 2,241.97 (or 1.5 percent) respondents. We also estimate that the number of completed RC responses by authorized retailers to be 3,070,618 annually—providing for a reduction of 3,752,977.80 (or 55 percent) annual responses, and a total burden hours calculated to be 61,412.364 hours.

The estimated reduction of respondents and annual burden hours is based on a projected decrease in the number of authorized retailers participating in the FSP, and a decrease in the number of RCs processed as a result of fewer authorized retailers accepting paper food coupons due to the increased use of the Electronic Benefit Transfer system.

Affected Public: Businesses, wholesale food concerns, or other not-for profit financial institutions.

Estimated Average Number of Respondents: 155,584.

Estimated Average Annual Number of Responses per Respondent: 43.68923.

Estimated Total Average Annual Responses: 6,797,351.

Estimate of Burden: Estimated to average .020 hours per response.

Estimated Total Average Annual Burden: 135,947.02 hours.

Dated: September 4, 2001.
George A. Braley,
Acting Administrator, Food and Nutrition Service.

[FR Doc. 01-23215 Filed 9-17-01; 8:45 am]

BILLING CODE 3410-30-P